DEPARTMENT OF TRANSPORTATION

Office of the Secretary

14 CFR Chs. I-III

23 CFR Chs. I-III

33 CFR Chs. I and IV

46 CFR Chs. I-III

48 CFR Ch. 1

49 CFR Subtitle A, Chs. I-VI, and Chs. X-XII

[DOT-OST-1999-5129]

Department Regulatory and Deregulatory Agenda; Semiannual Summary

AGENCY: Office of the Secretary, Department of Transportation.

ACTION: Unified Agenda of Regulatory and Deregulatory Actions (Regulatory Agenda).

SUMMARY: The Regulatory Agenda of the Department of Transportation (Department) is a semiannual summary of current, projected, and completed rulemakings, as well as reviews of existing regulations. The Regulatory Agenda provides the public with information about the Department's planned regulatory activity for the next 12 months. This information enables the public to participate in the Department's regulatory process more effectively. The public is encouraged to submit comments on any aspect of this Regulatory Agenda.

FOR FURTHER INFORMATION CONTACT: Please direct all comments and inquiries on the Regulatory Agenda to Daniel Cohen, Assistant General Counsel for Regulation and Legislation, Office of the General Counsel, Department of Transportation, 1200 New Jersey Avenue SE, Washington, DC 20590; (202) 366-4723.

To obtain a copy of a specific regulatory document in the Regulatory Agenda, you should communicate directly with the contact person listed with the regulation. Most such documents, including the Regulatory Agenda, are available through the internet at http://www.regulations.gov.

SUPPLEMENTARY INFORMATION:

Table of Contents for Supplementary Information

Background

Purpose

Request for Comments

Appendix A—Instructions for Obtaining Copies of Regulatory Documents

Appendix B—General Rulemaking Contact Persons

Appendix C—Public Rulemaking Dockets

Appendix D—Review Plans for Section 610 and Other Requirements

Background

For the Department to achieve its goals, and in accordance with Executive Order (E.O.) 12866, “Regulatory Planning and Review,” 58 FR 51735 (Oct. 4, 1993), and the Department's regulatory policies and procedures, the Department prepares a Semiannual Regulatory Agenda. The Regulatory Agenda summarizes all current and projected rulemakings, reviews of existing regulations, and completed actions of the Department. These are matters on which action has begun or is projected during the next 12 months or for which action has been completed since the last Regulatory Agenda.

On January 31, 2025, President Trump issued Executive Order 14192, “Unleashing Prosperity Through Deregulation,” 90 FR 9065 (Feb. 6, 2025), which establishes principles for promoting prudent financial management and alleviating unnecessary regulatory burdens. Executive Order 14192 was shortly followed by Executive Order 14219, “Ensuring Lawful Governance and Implementing the President's `Department of Government Efficiency' Deregulatory Initiative,” 90 FR 10583 (Feb. 25, 2025), which sets forth policies for commencing the deconstruction of the overbearing and burdensome administrative state. This Regulatory Agenda was prepared in accordance with both Executive Order 14192 and Executive Order 14219.

In addition to the Executive orders above related to regulatory burdens, President Trump has issued various Executive orders establishing the policies and priorities of this Administration. See, e.g., Executive Order 14168, “Defending Women From Gender Ideology Extremism and Restoring Biological Truth to the Federal Government,” 90 FR 8615 (Jan. 30, 2025); Executive Order 14154, “Unleashing American Energy,” 90 FR 8353 (Jan. 29, 2025); Executive Order 14151, “Ending Radical and Wasteful Government DEI Programs and Preferencing,” 90 FR 8339 (Jan. 29, 2025); and Executive Order 14148, “Initial Rescissions of Harmful Executive Orders and Actions,” 90 FR 8237 (Jan. 28, 2025). Secretary Sean Duffy has also taken actions to ensure that all Departmental policies align with the Administration's policies. These actions include issuing the following memoranda and orders: “Fixing the CAFE Program” (Jan. 28, 2025) ¹; “Implementation of Executive orders Addressing Energy, Climate Change, Diversity, and Gender” (Jan. 29, 2025) ²; Department Order 2100.7, “Ensuring Reliance upon Sound Economic Analysis in Department of Transportation Policies, Programs, and Activities” (effective Jan. 29, 2025) ³; and Department Order 2100.6B, “Policies and Procedures for Rulemakings” (effective March 10, 2025).⁴ Finally, the Department's Acting General Counsel issued a memorandum, “Review and Clearance of Guidance Documents” (March 11, 2025).⁵

¹ Available at https://www.transportation.gov/briefing-room/memorandum-fixing-cafe-program.

² Available at https://www.transportation.gov/briefing-room/signed-secretarial-memo-re-implementation-executive-orders-addressing-energy-climate.

³ Available at https://www.transportation.gov/mission/ensuring-reliance-upon-sound-economic-analysis-department-transportation-policies-programs.

⁴ Available at https://www.transportation.gov/regulations/dot-order-21006b-rulemaking-and-guidance-procedures.

⁵ Available at https://www.transportation.gov/regulations/review-and-clearance-guidance-documents (issued by Acting General Counsel Gregory Cote).

The Department will continue to work internally, as well as with the Office of Management and Budget, to implement into our rulemaking processes the principles outlined in the above actions. As part of our ongoing regulatory effort, the Department will likely revisit a number of proposed and final rulemakings to streamline project delivery further and to reduce unnecessary administrative burdens. The Department is also requesting the public's input on this effort. On April 3, 2025, the Department issued a request for information (RFI) seeking comment and information to assist the Department “in identifying existing regulations, guidance, paperwork requirements, and other regulatory obligations that can be modified or repealed, consistent with law, to ensure that [Departmental] administrative actions do not undermine the national interest and that [the Department] achieves meaningful burden reduction while continuing to meet statutory obligations and ensure the safety of the U.S. transportation system.” ⁶

⁶ U.S. Department of Transportation, “Ensuring Lawful Regulation; Reducing Regulation and Controlling Regulatory Costs,” 90 FR 14593 (April 3, 2025).

The Department's rulemaking activities will be based on sound economic principles and analysis supported by rigorous cost-benefit requirements and data-driven decisions. Safety will continue to be the Department's top priority. In addition, as new transportation technologies are rapidly advancing, they carry with them the potential to change commercial transportation and private travel dramatically, expanding access for millions and improving safety on our roads and rails, and in our skies. To that end, the Department's regulations will balance safety, innovation, and cutting-edge technology. We also remain mindful that infrastructure is the required underpinning of our country's world class economy. We will remain vigilant for opportunities where regulatory action can help strengthen and modernize our infrastructure.

Purpose

The Department is publishing this Regulatory Agenda to share with interested members of the public the Department's preliminary expectations regarding its future regulatory actions. The information contained in the Regulatory Agenda should enable the public to be aware of the Department's planned regulatory activities and should result in more effective public participation. This publication does not impose any binding obligation on the Department or any of the offices within the Department about any specific item on the Regulatory Agenda. Regulatory action in addition to the items listed is not precluded.

Request for Comments

General

The Department's Regulatory Agenda is intended primarily for the use of the public. Since its inception, the Department has made modifications and refinements that provide the public with more helpful information and make the Regulatory Agenda easier to use. We would like you, the public, to make suggestions or comments on how the Regulatory Agenda could be further improved.

Regulatory Flexibility Act

The Department has long recognized the importance of regularly reviewing its existing regulations to determine whether they need to be revised or revoked. Our regulatory policies and procedures require such reviews. The Department also has responsibilities to conduct such reviews under section 610 of the Regulatory Flexibility Act; Executive Order 12866, “Regulatory Planning and Review,” 58 FR 51735 (Oct. 4, 1993); and Executive Order 13563, “Improving Regulation and Regulatory Review,” 76 FR 3821 (Jan. 21, 2011). We are committed to continuing our reviews of existing rules and, if it is needed, will initiate rulemaking actions based on these reviews. Generally, each Departmental operating administration (OA), as well as the Office of the Secretary (OST), divides its rules into 10 different groups and plans to analyze one group each year. In each Fall Regulatory Agenda, each OA and OST will publish the results of the analyses completed during the previous year. The most recent results appeared in the Department's 2024 Fall Regulatory Agenda Preamble. The Department is interested in obtaining information on requirements that have a “significant economic impact on a substantial number of small entities” and, therefore, must be reviewed under the Regulatory Flexibility Act. If you have any suggested regulations, please submit them to the appropriate contact person listed in appendix B, along with your explanation of why they should be reviewed.

Consultation With State, Local, and Tribal Governments

Executive Order 13132, “Federalism,” 64 FR 43255 (Aug. 10, 1999), and E.O. 13175, “Consultation and Coordination With Indian Tribal Governments,” 65 FR 67249 (Nov. 9, 2000), require the Department to develop a process to ensure “meaningful and timely input” by State, local, and Tribal officials in the development of regulatory policies that have federalism or Tribal implications. These policies are defined in the Executive orders to include regulations that have “substantial direct effects” on States or Indian Tribes, on the relationship between the Federal Government and them, or on the distribution of power and responsibilities between the Federal Government and various levels of government or Indian Tribes. Therefore, we encourage State and local governments and Indian Tribes to provide us with information about how the Department's rulemakings impact them.

Gregory D. Cote,
Acting General Counsel, Department of Transportation.

Appendix A—Instructions for Obtaining Copies of Regulatory Documents

To obtain a copy of a specific regulatory document in the Regulatory Agenda, you should communicate directly with the contact person listed with the regulation at the address below. Most, if not all, such documents, including the Regulatory Agenda, are available through the internet at http://www.regulations.gov and http://www.reginfo.gov. See Appendix C for more information.

Appendix B—General Rulemaking Contact Persons

The following is a list of persons who can be contacted within the Department for general information concerning the rulemaking process within the OAs and OST.

FAA—Brandon Roberts, Executive Director, Office of Rulemaking, 800 Independence Avenue SW, Washington, DC 20591; telephone (202) 267-9677.

FHWA—Jennifer Outhouse, Office of the Chief Counsel, 1200 New Jersey Avenue SE, Washington, DC 20590; telephone (202) 366-0761.

FMCSA—Wendy Liberante, Director of Policy, Strategic Planning, and Regulations, 1200 New Jersey Avenue SE, Washington, DC 20590; telephone (202) 366-1735.

FRA—Amanda Maizel, Office of the Chief Counsel, 1200 New Jersey Avenue SE, Washington, DC 20590; telephone (202) 308-3753.

FTA—Mark Montgomery, Office of the Chief Counsel, 1200 New Jersey Avenue SE, Washington, DC 20590; telephone (202) 841-7974.

GLS—Donna O'Berry, Chief Counsel, 1200 New Jersey Avenue SE, Washington, DC 20590; telephone (202) 236-8645.

MARAD—Gabriel Chavez, Office of the Chief Counsel, Maritime Administration, 1200 New Jersey Avenue SE, Washington, DC 20590; telephone (202) 441-6143.

NHTSA—David Jasinski, Office of the Chief Counsel, 1200 New Jersey Avenue SE, Washington, DC 20590; telephone (202) 713-7882.

OST—Daniel Cohen, Assistant General Counsel for Regulation and Legislation, 1200 New Jersey Avenue SE, Washington, DC 20590; telephone (202) 366-4723.

PHMSA—Robert Ross, Office of the Chief Counsel, 1200 New Jersey Avenue SE, Washington, DC 20590; telephone (202) 768-1365.

Appendix C—Public Rulemaking Dockets

All comments on rulemakings submitted via the internet are submitted through http://www.regulations.gov. This website allows the public to search, view, download, and comment on all Federal agency rulemaking documents in one central online system. The above referenced internet address also allows the public to sign up to receive notifications when certain documents are placed in the dockets.

Appendix D—Review Plans for Section 610 and Other Requirements

Part I—The Plan

General

The Department of Transportation has responsibilities under section 610 of the Regulatory Flexibility Act and subsequent Executive Orders to conduct reviews of its existing regulations. We are committed to continuing our reviews of existing rules and, if it is needed, will initiate rulemaking actions based on these reviews. The Department began a new 10-year review cycle with the Fall 2018 Regulatory Agenda.

Section 610 Review Plan

Section 610 requires that we conduct reviews of rules that: (1) have been published within the last 10 years; and (2) have a “significant economic impact on a substantial number of small entities” (SEISNOSE). It also requires that we publish in the Federal Register each year a list of any such rules that we will review during the next year. OST and each of the OAs have a 10-year review plan. These reviews comply with section 610 of the Regulatory Flexibility Act.

Changes to the Review Plan

Some reviews may be conducted earlier than scheduled. For example, events such as accidents may result in the need to conduct earlier reviews of some rules. Other factors may also result in the need to make changes; for example, we may make changes in response to public comment on this plan or in response to a presidentially mandated review. If there is any change to the review plan, we will note the change in the following Regulatory Agenda. For any section 610 review, we will provide the required notice prior to the review.

Part II—The Review Process

The Analysis

Generally, the OAs and OST have divided their rules into 10 different groups and plan to analyze one group each year. For purposes of these reviews, a year will coincide with the publication annually of the Fall Regulatory Agenda. We request public comment on the timing of the reviews. For example, is there a reason for scheduling an analysis and review for a particular rule earlier than we have? Any comments concerning the plan or analyses should be submitted to the regulatory contacts listed in Appendix B, General Rulemaking Contact Persons.

Section 610 Review

The OAs and OST will analyze each of the rules in each year's group to determine whether any rule has a SEISNOSE and, thus, requires review in accordance with section 610 of the Regulatory Flexibility Act. The level of analysis will depend on the nature of the rule and its applicability. The publication of the section 610 analyses listed each fall in this Regulatory Agenda provides the public with notice and an opportunity to comment consistent with the requirements of the Regulatory Flexibility Act. We request that public comments be submitted to the Department early in the analysis year concerning the small entity impact of the rules to help us in making our determinations.

In each Fall Regulatory Agenda, the OAs and OST will publish the results of the analyses they have completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, the Department will add an entry to the Regulatory Agenda in the pre-rulemaking section describing the review in more detail. We also will seek public comment on how best to lessen the impact of these rules and provide a name or docket to which public comments can be submitted. In some cases, the section 610 review may be part of another unrelated review of the rule. In such a case, we plan to indicate clearly which parts of the review are being conducted under section 610.

Other Reviews

The OAs and OST will also examine the specified rules to determine whether any other reasons exist for revising or revoking the rule or for rewriting the rule in plain language. In each Fall Regulatory Agenda, the OAs and OST will also publish information on the results of the examinations completed during the previous year.

Federal Aviation Administration—Prerule Stage
Sequence No. | Title | Regulation Identifier No.
128 | Aircraft Registration, Airman Certification, and Airman Medical Certificate Fees | 2120-AK37

Federal Aviation Administration—Proposed Rule Stage
Sequence No. | Title | Regulation Identifier No.
129 | Requirements to File Notice of Construction of Meteorological Evaluation Towers and Other Renewable Energy Projects (Section 610 Review) | 2120-AK77

Federal Aviation Administration—Long-Term Actions
Sequence No. | Title | Regulation Identifier No.
130 | Registration and Marking Requirements for Small Unmanned Aircraft | 2120-AK82
131 | Operating Requirements: Definition Changes for On-Demand Operation, Scheduled Operation, and Supplemental Operation | 2120-AM05

Federal Aviation Administration—Completed Actions
Sequence No. | Title | Regulation Identifier No.
132 | Drug and Alcohol Testing of Certificated Repair Station Employees Located Outside of the United States | 2120-AK09
133 | Integration of Powered-Lift: Pilot Certification and Operations; Miscellaneous Amendments Related to Rotorcraft and Airplanes | 2120-AL72

Federal Motor Carrier Safety Administration—Long-Term Actions
Sequence No. | Title | Regulation Identifier No.
134 | Safety Monitoring System and Compliance Initiative for Mexico-Domiciled Motor Carriers Operating in the United States | 2126-AA35
135 | Self-Insurance Program Cost Recovery (Section 610 Review) | 2126-AC58

Federal Railroad Administration—Proposed Rule Stage
Sequence No. | Title | Regulation Identifier No.
136 | Risk Reduction Program (Section 610 Review) | 2130-AC89

Federal Railroad Administration—Final Rule Stage
Sequence No. | Title | Regulation Identifier No.
137 | Positive Train Control Systems (Section 610 Review) | 2130-AC95

Pipeline and Hazardous Materials Safety Administration—Proposed Rule Stage
Sequence No. | Title | Regulation Identifier No.
138 | Pipeline Safety: Pipeline Operational Status | 2137-AF52

Pipeline and Hazardous Materials Safety Administration—Long-Term Actions
Sequence No. | Title | Regulation Identifier No.
139 | Pipeline Safety: Gas Pipeline Leak Detection and Repair | 2137-AF51
140 | Pipeline Safety: Safety of Gas Distribution Pipelines and Other Pipeline Safety Initiatives | 2137-AF53

Maritime Administration—Proposed Rule Stage
Sequence No. | Title | Regulation Identifier No.
141 | Cargo Preference—U.S. Flag Vessels Regulatory Update (Section 610 Review) | 2133-AB97

Maritime Administration—Long-Term Actions
Sequence No. | Title | Regulation Identifier No.
142 | Establishing Safe and Secure Merchant Marine Training, Every Mariner Builds A Respectful Culture (EMBARC) (Section 610 Review) | 2133-AB99

Department of Transportation (DOT): Federal Aviation Administration (FAA) | Prerule Stage

128. AIRCRAFT REGISTRATION, AIRMAN CERTIFICATION, AND AIRMAN MEDICAL CERTIFICATE FEES [2120-AK37]

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
ANPRM | 10/00/25

Regulatory Flexibility Analysis Required: Yes

Agency Contact: Isra Raza, Department of Transportation, Federal Aviation Administration, 800 Independence Avenue SW, Washington, DC 20591

Phone: 202 267-8994

Email: isra.raza@faa.gov

RIN: 2120-AK37

Department of Transportation (DOT): Federal Aviation Administration (FAA) | Proposed Rule Stage

129. REQUIREMENTS TO FILE NOTICE OF CONSTRUCTION OF METEOROLOGICAL EVALUATION TOWERS AND OTHER RENEWABLE ENERGY PROJECTS (SECTION 610 REVIEW) [2120-AK77]

Legal Authority: 49 U.S.C. 40103; 49 U.S.C. 106(f)

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Public Law 114-190).

Timetable:

Action | Date | FR Cite
NPRM | 11/18/24 | 89 FR 90627
NPRM Comment Period End | 01/17/25
Analyzing Comments | 07/00/25

Regulatory Flexibility Analysis Required: No

Agency Contact: Brian Konie, Air Traffic Service, Department of Transportation, Federal Aviation Administration, 800 Independence Avenue SW, Washington, DC 20591

Phone: 202 267-8783

Email: brian.konie@faa.gov

RIN: 2120-AK77

Department of Transportation (DOT): Federal Aviation Administration (FAA) | Long-Term Actions

130. REGISTRATION AND MARKING REQUIREMENTS FOR SMALL UNMANNED AIRCRAFT [2120-AK82]

Legal Authority: 49 U.S.C. 106(f), 49 U.S.C. 41703, 44101 to 44106, 44110 to 44113, and 44701

Abstract: This rulemaking would provide an alternative, streamlined and simple, web-based aircraft registration process for the registration of small unmanned aircraft, including small, unmanned aircraft operated exclusively for limited recreational operations, to facilitate compliance with the statutory requirement that all aircraft register prior to operation. It would also provide a simpler method for marking small, unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15
OMB Approval of Information Collection | 12/21/15 | 80 FR 79255
Interim Final Rule Comment Period End | 01/15/16
Final Rule | 07/00/26

Regulatory Flexibility Analysis Required: Yes

Agency Contact: Natalie Wilkowske, Department of Transportation, Federal Aviation Administration, 6500 S MacArthur Boulevard, Registry Building 26, Room 118, Oklahoma City, OK 73169

Phone: 866 762-9434

Email: natalie.wilkowske@faa.gov

RIN: 2120-AK82

131. OPERATING REQUIREMENTS: DEFINITION CHANGES FOR ON-DEMAND OPERATION, SCHEDULED OPERATION, AND SUPPLEMENTAL OPERATION [2120-AM05]

Legal Authority: 49 U.S.C. 106; 49 U.S.C. 44701

Abstract: The Federal Aviation Administration (FAA) proposes to amend regulations by removing all references to public charter operations and part 380 from the definitions of scheduled operation, on-demand operation, and supplemental operation. The FAA also proposes to amend the definitions of on-demand operation and supplemental operation by replacing language related to negotiated operations with language clarifying that for such operations the departure location, departure time, and arrival location cannot be offered in advance. The proposed rule would ensure that all public charter operations are conducted under the appropriate level of safety.

Timetable:

Action | Date | FR Cite
Next Action Undetermined | To Be Determined

Regulatory Flexibility Analysis Required: Yes

Agency Contact: Jackie Clow, Department of Transportation, Federal Aviation Administration, 800 Independence Avenue SW, Washington, DC 20591

Phone: 202 267-8166

Email: jackie.a.clow@faa.gov

RIN: 2120-AM05

Department of Transportation (DOT): Federal Aviation Administration (FAA) | Completed Actions

132. DRUG AND ALCOHOL TESTING OF CERTIFICATED REPAIR STATION EMPLOYEES LOCATED OUTSIDE OF THE UNITED STATES [2120-AK09]

Legal Authority: 14 CFR; 49 U.S.C. 106(f); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This rulemaking is a statutory mandate under section 308(d) of the FAA Modernization and Reform Act of 2012 (Public Law 112-95).

Timetable:

Action | Date | FR Cite
ANPRM | 03/17/14 | 79 FR 14621
Comment Period Extended | 05/01/14 | 79 FR 24631
ANPRM Comment Period End | 05/16/14
Comment Period End | 07/17/14
NPRM | 12/07/23 | 88 FR 85137
NPRM Comment Period Extended | 01/24/24 | 89 FR 4584
NPRM Comment Period End | 02/05/24
End of Extended Comment Period | 04/05/24
Final Rule | 12/27/24 | 89 FR 105447
Final Rule Effective | 01/17/25
Final Rule Notice of enforcement discretion | 03/11/25 | 90 FR 11668

Regulatory Flexibility Analysis Required: Yes

Agency Contact: Nancy Rodriguez-Brown, Department of Transportation, Federal Aviation Administration, 800 Independence Avenue SW, Washington, DC 20591

Phone: 202 267-8442

Email: drugabatement@faa.gov

RIN: 2120-AK09

133. INTEGRATION OF POWERED-LIFT: PILOT CERTIFICATION AND OPERATIONS; MISCELLANEOUS AMENDMENTS RELATED TO ROTORCRAFT AND AIRPLANES [2120-AL72]

Legal Authority: 49 U.S.C. 40113; 49 U.S.C. 44701 to 44705; 49 U.S.C. 106 (f); 49 U.S.C. 44707; 49 U.S.C. 44712; 49 U.S.C. 44713; 49 U.S.C. 44715; 49 U.S.C. 44716; 49 U.S.C. 44722

Abstract: This action would propose a Special Federal Aviation Regulation for alternate eligibility requirements to safely certificate initial groups of powered-lift pilots, as well as determine which operating rules to apply to powered-lift aircraft on a temporary basis to enable the FAA to gather additional information and determine the most appropriate permanent rulemaking path for these aircraft. Powered-lift will be type certificated as special class aircraft under the existing regulations. Currently, there is not an established path for the initial group of civilian powered-lift pilots to obtain the required experience to obtain a pilot certificate and powered-lift have not been conceptualized into the general and commercial operating regulations.

Timetable:

Action | Date | FR Cite
NPRM | 06/14/23 | 88 FR 38946
NPRM Comment Period End | 08/14/23
Analyzing Comments | 12/29/23 |
Final Rule | 11/21/24 | 89 FR 92296
Final Rule; Correction | 01/03/25 | 90 FR 215
Final Rule Effective | 01/21/25
Final Rule Notice of enforcement discretion | 03/11/25 | 90 FR 11670

Regulatory Flexibility Analysis Required: Yes

Agency Contact: Christina Grabill, Department of Transportation, Federal Aviation Administration, 800 Independence Avenue SW, Washington, DC 20591

Phone: 202 267-1100

Email: christina.grabill@faa.gov

RIN: 2120-AL72

BILLING CODE 4910-13-P

Department of Transportation (DOT): Federal Motor Carrier Safety Administration (FMCSA) | Long-Term Actions

134. SAFETY MONITORING SYSTEM AND COMPLIANCE INITIATIVE FOR MEXICO-DOMICILED MOTOR CARRIERS OPERATING IN THE UNITED STATES [2126-AA35]

Legal Authority: Pub. L. 107-87, sec.350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01
Interim Final Rule | 03/19/02 | 67 FR 12758
Interim Final Rule Comment Period End | 04/18/02
Interim Final Rule Effective | 05/03/02
Notice of Intent to Prepare an EIS | 08/26/03 | 68 FR 51322
EIS Public Scoping Meetings | 10/08/03 | 68 FR 58162
Next Action Undetermined

Regulatory Flexibility Analysis Required: Yes

Agency Contact: Wendy Liberante, Department of Transportation, Federal Motor Carrier Safety Administration, 1200 New Jersey Avenue SE, Washington, DC 20590

Phone: 202 366-2551

Email: wendy.liberante@dot.gov

RIN: 2126-AA35

135. SELF-INSURANCE PROGRAM COST RECOVERY (SECTION 610 REVIEW) [2126-AC58]

Legal Authority: 31 U.S.C. 9701 and 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
Next Action Undetermined | To Be Determined

Regulatory Flexibility Analysis Required: No

Agency Contact: Kenneth Riddle, Office Director, Department of Transportation, Federal Motor Carrier Safety Administration, 1200 New Jersey Avenue SE, W65-308, Washington, DC 20590

Phone: 202 366-9616

Email: kenneth.riddle@dot.gov

RIN: 2126-AC58

BILLING CODE 4910-EX-P

Department of Transportation (DOT): Federal Railroad Administration (FRA) | Proposed Rule Stage

136. RISK REDUCTION PROGRAM (SECTION 610 REVIEW) [2130-AC89]

Legal Authority: 49 U.S.C. 20103; 49 U.S.C. 20156

Abstract: FRA published the Risk Reduction Program (RRP) final rule on February 18, 2020, as required by 49 U.S.C. 20156. The RRP final rule established regulations at 49 CFR part 271, requiring Class I freight railroads and Class II and III freight railroads that demonstrate inadequate safety performance to develop and implement an RRP to improve the safety of their operations. This NPRM would address a procedural issue raised in an Association of American Railroads (AAR) petition to remove 49 CFR 271.3(c), which states that employees of railroad contractors that perform a “Significant portion of a railroad's operation” are considered the railroad's “directly affected employees” for purposes of the RRP rule.

Timetable:

Action | Date | FR Cite
NPRM | 09/08/22 | 87 FR 54938
NPRM Comment Period End | 11/07/22
Second NPRM | 12/00/25

Regulatory Flexibility Analysis Required: No

Agency Contact: Amanda Maizel, Attorney Adviser, Department of Transportation, Federal Railroad Administration, 1200 New Jersey Avenue SE, Washington, DC 20590

Phone: 202 308-3753

Email: amanda.maizel@dot.gov

RIN: 2130-AC89

Department of Transportation (DOT): Federal Railroad Administration (FRA) | Final Rule Stage

137. POSITIVE TRAIN CONTROL SYSTEMS (SECTION 610 REVIEW) [2130-AC95]

Legal Authority: 49 U.S.C. 20103; 49 U.S.C. 20157

Abstract: This rulemaking will amend FRA's PTC regulations- Title 49 Code of Federal Regulations (CFR) part 236, subpart I- to accomplish two objectives: (1) improve FRA's oversight of the performance of PTC technology by clarifying and expanding certain reporting requirements, and (2) provide a clear framework under which railroads may safely operate without PTC technology, subject to operating restrictions and other requirements, in certain necessary situations. FRA has found that its existing PTC regulations do not provide sufficient flexibility to railroads to continue operating following initialization failures or in cases where a PTC system needs to be temporarily disabled during repair, maintenance, infrastructure upgrades, or capital projects. Previously, FRA's regulations provided railroads with flexibility that expired on December 31, 2022, and this rulemaking will reintroduce a certain flexibility regarding initialization failures, establish additional parameters and operating restrictions under which railroads may continue to operate safely, and codify an existing process for FRA's approval of temporary PTC system outages related to repair, maintenance, infrastructure upgrades, and capital projects. In addition, this rulemaking will create a new exception to permit non-revenue passenger trains to operate to yards or maintenance facilities, without being governed by PTC technology, under certain conditions.

Timetable:

Action | Date | FR Cite
NPRM | 10/27/24 | 89 85462
Comment Period Extended | 12/23/24 | 89 104510
NPRM Comment Period End | 01/11/25
Final Rule | 12/00/25

Regulatory Flexibility Analysis Required: No

Agency Contact: Amanda Maizel, Attorney Adviser, Department of Transportation, Federal Railroad Administration, 1200 New Jersey Avenue SE, Washington, DC 20590

Phone: 202 308-3753

Email: amanda.maizel@dot.gov

RIN: 2130-AC95

BILLING CODE 4910-06-P

Department of Transportation (DOT): Pipeline and Hazardous Materials Safety Administration (PHMSA) | Proposed Rule Stage

138. PIPELINE SAFETY: PIPELINE OPERATIONAL STATUS [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 03/00/26

Regulatory Flexibility Analysis Required: Yes

Agency Contact: Robert Jagger, Senior Transportation Specialist, Department of Transportation, Pipeline and Hazardous Materials Safety Administration, 1200 New Jersey Avenue SE, Washington, DC 20590

Phone: 202 557-6765

Email: robert.jagger@dot.gov

RIN: 2137-AF52

Department of Transportation (DOT): Pipeline and Hazardous Materials Safety Administration (PHMSA) | Long-Term Actions

139. PIPELINE SAFETY: GAS PIPELINE LEAK DETECTION AND REPAIR [2137-AF51]

Legal Authority: 49 U.S.C. 60101 et seq.

Abstract: This rulemaking action would amend the pipeline safety regulations to enhance requirements for detecting and repairing leaks on new and existing natural gas distribution, gas transmission, and gas gathering pipelines. The proposed rule is necessary to respond to a mandate from Section 113 of the Protecting our Infrastructure of Pipelines and Enhancing Safety Act of 2020.

Timetable:

Action | Date | FR Cite
NPRM | 05/18/23 | 88 FR 31890
NPRM Comment Period End | 07/17/23
Final Rule | To Be Determined

Regulatory Flexibility Analysis Required: Yes

Agency Contact: Sayler Palabrica, Department of Transportation, Pipeline and Hazardous Materials Safety Administration, 1200 New Jersey Avenue SE, Washington, DC 20590

Phone: 202 744-0825

Email: sayler.palabrica@dot.gov

RIN: 2137-AF51

140. PIPELINE SAFETY: SAFETY OF GAS DISTRIBUTION PIPELINES AND OTHER PIPELINE SAFETY INITIATIVES [2137-AF53]

Legal Authority: 49 U.S.C. 60101 et seq.

Abstract: This rulemaking would amend the pipeline safety regulations to enhance the safety requirements for gas distribution pipelines. The rule is necessary to respond to several mandates from Title II of the Protecting our Infrastructure of Pipelines and Enhancing Safety Act of 2020 (PIPES Act of 2020).

Timetable:

Action | Date | FR Cite
NPRM | 09/07/23 | 88 FR 61746
NPRM Comment Period End | 11/06/23
Analyzing Comments | 12/00/26

Regulatory Flexibility Analysis Required: Yes

Agency Contact: Robert Jagger, Senior Transportation Specialist, Department of Transportation, Pipeline and Hazardous Materials Safety Administration, 1200 New Jersey Avenue SE, Washington, DC 20590

Phone: 202 557-6765

Email: robert.jagger@dot.gov

RIN: 2137-AF53

BILLING CODE 4910-60-?

Department of Transportation (DOT): Maritime Administration (MARAD) | Proposed Rule Stage

141. CARGO PREFERENCE—U.S. FLAG VESSELS REGULATORY UPDATE (SECTION 610 REVIEW) [2133-AB97]

Legal Authority: 46 U.S.C. ch. 553, 49 CFR 1.93(a)

Abstract: The purpose of this rulemaking is to respond to a statutory directive in section 3502 of the National Defense Authorization Act for Fiscal Year 2023 (FY23 NDAA) requiring MARAD to issue a final rule to implement and enforce the cargo preference requirements in 46 U.S.C. 55305(d).

Timetable:

Action | Date | FR Cite
NPRM | 06/00/26

Regulatory Flexibility Analysis Required: No

Agency Contact: Mitch Hudson, Senior Attorney, Department of Transportation, Maritime Administration, 1200 New Jersey Avenue SE, Washington, DC 20590

Phone: 202 366-9373

Email: mitch.hudson@dot.gov

RIN: 2133-AB97

Department of Transportation (DOT): Maritime Administration (MARAD) | Long-Term Actions

142. ESTABLISHING SAFE AND SECURE MERCHANT MARINE TRAINING, EVERY MARINER BUILDS A RESPECTFUL CULTURE (EMBARC) (SECTION 610 REVIEW) [2133-AB99]

Legal Authority: 46 U.S.C. 50101, 46 U.S.C. 51103, 46 U.S.C. 51322, 46 U.S.C. 57100, 49 CFR 1.93(

Abstract: The purpose of this rule is to provide for a safe and secure work environment for U.S. Merchant Marine Academy and State Maritime Academy cadets assigned to a vessel for training or educational purposes and to provide for the operation of a safe and efficient United States Merchant Marine through the prevention of and response to prohibited behavior such as sexual assault and harassment of any kind.

Timetable:

Action | Date | FR Cite
Final Rule | 12/00/26

Regulatory Flexibility Analysis Required: No

Agency Contact: Mitch Hudson, Senior Attorney, Department of Transportation, Maritime Administration, 1200 New Jersey Avenue SE, Washington, DC 20590

Phone: 202 366-9373

Email: mitch.hudson@dot.gov

RIN: 2133-AB99

[FR Doc. Filed 08-18-25; 0:00 a.m.]

BILLING CODE 4910-81-P

[FR Doc. 2025-18337 Filed 9-19-25; 8:45 am]

BILLING CODE 4910-81-P